DEPARTMENT OF COMMERCE

International Trade Administration

[A-351-841]

Polyethylene Terephthalate Film, Sheet, and Strip From Brazil: Final Results of Antidumping Duty Administrative Review; 2011-2012

AGENCY: Enforcement and Compliance, formerly Import Administration, International Trade Administration, Department of Commerce.

SUMMARY: On August 16, 2013, the Department of Commerce (the Department) published the Preliminary Results of the 2011-2012 administrative review of the antidumping duty order on Polyethylene Terephthalate Film, Sheet, and Strip (PET film) from Brazil.¹ This review covers one respondent, Terphane Ltda., and Terphane's U.S. affiliate, Terphane, Inc. (collectively, Terphane). The petitioners in this proceeding are Mitsubishi Polyester Film, Inc. and SKC, Inc. (collectively, Petitioners). For these final results of review we continue to find that Terphane had no reviewable entries of PET film subject to the order.

¹ See Polyethylene Terephthalate Film, Sheet and Strip From Brazil: Preliminary Results of Antidumping Duty Administrative Review; 2011-2012, 78 FR 50029 (August 16, 2013) (Preliminary Results), and accompanying Decision Memorandum (Preliminary Decision Memorandum).

DATES: Effective Date: January 10, 2014.

FOR FURTHER INFORMATION CONTACT: Tyler Weinhold or Robert James, AD/CVD Operations, Office VI, Enforcement and Compliance, International Trade Administration, U.S. Department of Commerce, 14th Street and Constitution Avenue NW., Room 7850, Washington, DC 20230; telephone (202) 482-1121 or (202) 482-0649, respectively.

SUPPLEMENTARY INFORMATION:

Background

On August 7, 2013, the Department published the Preliminary Results. We invited interested parties to comment on the Preliminary Results. In response, we received a case brief from Petitioner on September 16, 2013. Terphane filed a rebuttal brief on September 23, 2013.

Period of Review (POR)

The POR is July 1, 2011, through June 30, 2012.

Scope of the Order

The products covered by this order are all gauges of raw, pre-treated, or primed PET film, whether extruded or co-extruded. PET film is classifiable under subheading 3920.62.00.90 of the Harmonized Tariff Schedule of the United States.²

² For a full description of the scope of the order, see “Issues and Decision Memorandum for the Final Results of the 2011 to 2012 Administrative Review of the Antidumping Duty Order on Polyethylene Terephthalate Film, Sheet, and Strip from Brazil,” from Richard Weible, Director, Office VI, to Christian Marsh, Deputy Assistant Secretary for Antidumping and Countervailing Duty Operations (Issues and Decision Memorandum), dated concurrently with these final results and incorporated herein by reference. The Issues and Decision Memorandum is a public document and is on file electronically via Enforcement and Compliance's Antidumping and Countervailing Duty Centralized Electronic Service System (IA ACCESS). IA ACCESS is available to registered users at http://iaaccess.trade.gov and in the Central Records Unit (CRU), Room 7046 of the main Department of Commerce building. In addition, a complete version of the Issues and Decision Memorandum can be accessed directly on the Internet at http://enforcement.trade.gov/frn/. The signed Issues and Decision Memorandum and the electronic versions of the Issues and Decision Memorandum are identical in content.

Tolling of Deadlines

As explained in the memorandum from the Assistant Secretary for Enforcement and Compliance, the Department has exercised its discretion to toll deadlines for the duration of the closure of the Federal Government from October 1, through October 16, 2013.³ Therefore, all deadlines in this segment of the proceeding have been extended by 16 days. If the new deadline falls on a non-business day, in accordance with the Department's practice, the deadline will become the next business day. The revised deadline for the final results of this review is now January 2, 2014.

³ See Memorandum for the Record from Paul Piquado, Assistant Secretary for Enforcement and Compliance, “Deadlines Affected by the Shutdown of the Federal Government” (October 18, 2013).

Analysis of Comments Received

All issues raised in the case and rebuttal briefs by parties to this antidumping investigation are addressed in the Issues and Decision Memorandum. A list of the issues raised is attached to this notice as Appendix I. We have analyzed all interested party comments and have made no changes to the Preliminary Results for these final results.

Final Determination of No Shipments

Based on information Terphane submitted after the initiation of this administrative review and information collected from U.S. Customs and Border Protection (CBP), the Department has determined that the record evidence indicates that Terphane had no reviewable entries during the POR. In addition, the Department finds that it is not appropriate to rescind the review with respect to Terphane but, rather, to complete the review with respect to Terphane and issue appropriate instructions to CBP based on the final results of this review, as is our current practice for companies which had no shipments during the POR.⁴

⁴ See, e.g., Certain Frozen Warmwater Shrimp From Thailand: Preliminary Results of Antidumping Duty Administrative Review and Intent To Revoke the Order (in Part); 2011-2012, 78 FR 15686 (March 12, 2013) and the accompanying Decision Memorandum, at 7 to 8, unchanged in Certain Frozen Warmwater Shrimp From Thailand: Final Results of Antidumping Duty Administrative Review, Partial Rescission of Review, and Revocation of Order (in Part); 2011-2012, 78 FR 42497 (July 16, 2013); Polyester Staple Fiber From Taiwan: Final Results of Antidumping Duty Administrative Review; 2011-2012, 78 FR 38938, 38939 (June 28, 2013); Certain Frozen Warmwater Shrimp From India: Final Results of Antidumping Duty Administrative Review and Final No Shipment Determination; 2011-2012, 78 FR 42492, 42493 (July 16, 2013); and Polyethylene Retail Carrier Bags From Thailand: Final Results of Antidumping Duty Administrative Review; 2011-2012, 78 FR 50376, 50377 (August 19, 2013).

Assessment Rates

The Department clarified its “automatic assessment” regulation on May 6, 2003. This clarification will apply to entries of subject merchandise during the POR produced by companies included in these final results of review for which these companies did not know that the merchandise was destined for the United States. In such instances, we will instruct CBP to liquidate un-reviewed entries at the all-others rate if there is no rate for the intermediate company(ies) involved in the transaction.⁵ We intend to issue assessment instructions directly to CBP 15 days after publication of the final results of this review.

⁵ For a full discussion of this clarification, see Antidumping and Countervailing Duty Proceedings: Assessment of Antidumping Duties, 68 FR 23954 (May 6, 2003).

Notification to Importers

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

Administrative Protective Order

This notice also serves as a reminder to parties subject to administrative protective orders (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

We are issuing and publishing this notice in accordance with sections 751(a)(1) and 777(i)(1) of the Act.

Dated: January 2, 2014.
Christian Marsh,
Deputy Assistant Secretary for Antidumping and Countervailing Duty Operations.

Appendix I

List of Topics Discussed in the Accompanying Issues and Decision Memorandum

Issue 1: Whether to Rescind or to Complete the Administrative Review

Issue 2: Whether to Structure the Final Results, and Resulting Customs Instructions to Allow for Subsequent Revision In Light of Pending Litigation

[FR Doc. 2014-00174 Filed 1-9-14; 8:45 am]

BILLING CODE 3510-DS-P